FEDERAL COMMUNICATIONS COMMISSION

[CG Docket 03-123; DA 07-3512]

Consumer & Governmental Affairs Bureau Seeks Comment on Petition for Declaratory Ruling Regarding Video Relay Service (VRS) Provider Employment Contracts With VRS Communications Assistants (CAs)

AGENCY: Federal Communications Commission.

ACTION: Notice.

SUMMARY: In this document, the Commission is seeking comment on a petition for declaratory ruling filed by five Video Relay Service (VRS) providers (Petitioners) that Sorenson Communications, Inc.'s (Sorenson) alleged practice of using clauses in their employment contracts that forbid VRS Communications Assistants from working with other VRS providers for a period of one year after ending their employment with Sorenson is contrary to the public interest and therefore should be prohibited.

DATES: Comments are due on or before September 4, 2007, and reply comments are due on or before September 19, 2007.

ADDRESSES: You may submit comments identified by [CG Docket No. 03-123], by any of the following methods:

• Federal eRulemaking Portal: http://www.regulations.gov. Follow the instructions for submitting electronic filings.

• Federal Communications Commission's Web Site: http://www.fcc.gov/cgb/ecfs/. Follow the instructions for submitting electronic filings.

• Parties who choose to file by paper should also submit their filings on diskette. These diskettes should be submitted, along with three paper copies, to: Diane Mason, Consumer & Governmental Affairs Bureau, Disability Rights Office, 445 12th Street, SW., Room 3-A503, Washington, DC 20554. Such submission should be on a 3.5 inch diskette formatted in an IBM compatible format using Word 2003 or a compatible software. The diskette should be accompanied by a cover letter and should be submitted in “read only” mode. The diskette should be clearly labeled with the commenter's name, proceeding (including the lead docket number in this case (CG Docket No. 03-123)), type of pleading (comment or reply comment), date of submission, and the name of the electronic file on the diskette. The label should also include the following phrase “Disk Copy—Not an Original.” Each diskette should contain only one party's pleadings, preferably in a single electronic file. In addition, electronic filings must send diskette copies to the Commission's duplicating contractor at Portals II, 445 12th Street, SW., Room CY-CB402, Washington, DC 20554.

• People with Disabilities: Contact the FCC to request reasonable accommodations (accessible format documents, sign language interpreters, CART, etc.) by e-mail: FCC504@fcc.gov or phone (202) 418-0539 or TTY: (202) 418-0432.

For detailed instructions for submitting electronic filings and additional information on the rulemaking process, see the SUPPLEMENTARY INFORMATION section of this document.

FOR FURTHER INFORMATION CONTACT: Diane Mason, Consumer & Government Affairs Bureau, at (202) 418-7126 (voice), (202) 418-7828 (TTY) or e-mail diane.mason@fcc.gov.

SUPPLEMENTARY INFORMATION: This is a summary of the Commission's document DA 07-3512, released August 3, 2007, in CG Docket No. 03-123. Pursuant to §§ 1.415 and 1.419 of the Commission's rules, 47 CFR 1.415, 1.419, interested parties may file comments and reply comments on or before the dates indicated on the first page of this document. Comments may be filed using: (1) The Commission's Electronic Comment Filing System (ECFS), (2) the Federal Government's eRulemaking Portal, or (3) by filing paper copies. See Electronic Filing of Documents in Rulemaking Proceedings, 63 FR 24121, May 1, 1998.

• Electronic Filers: Filings may be filed electronically using the Internet by accessing the ECFS: http://www.fcc.gov/cgb/ecfs/ or the Federal eRulemaking Portal: http://www.regulations.gov. Filers should follow the instructions provided on the Web site for submitting electronic filings.

• For ECFS filers, if multiple docket or rulemaking numbers appear in the caption of this proceeding, filers must transmit one electronic copy of the filing for each docket or rulemaking number referenced in the caption. In completing the transmittal screen, filers should include their full name, U.S. Postal Service mailing address, and the applicable docket or rulemaking number, which in this instance is CG Docket No. 03-123. Parties may also submit an electronic filing by Internet e-mail. To get filing instructions, filers should send an e-mail to ecfs@fcc.gov, and include the following words in the body of the message, “get form <your e-mail address>.” A sample form and directions will be sent in response.

• Paper Filers: Parties who choose to file by paper must file an original and four copies of each filing. If more than one docket or rulemaking number appears in the caption in this proceeding, filers must submit two additional copies of each additional docket or rulemaking number.

• Filings can be sent by hand or messenger delivery, by commercial overnight courier, or by first-class or overnight U.S. Postal Service mail (although the Commission continues to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial mail sent by overnight mail (other than U.S. Postal Service Express Mail and Priority Mail) must be sent to 9300 East Hampton Drive, Capitol Heights, MD 20743.

• U.S. Postal Service first-class, Express, and Priority mail should be addressed to 445 12th Street, SW., Washington, DC 20554.

A copy of document DA 07-3512 and any subsequently file documents in this matter will be available during regular business hours at the FCC Reference Center, Portals II, 445 12th Street, SW., Room CY-A257, Washington, DC 20554, (202) 418-0270. Document DA 07-3512 and any subsequently filed documents in this matter may also be purchased from the Commission's duplicating contractor at their Web site, http://www.bcpiweb.com, or call (800) 378-3160. A copy of DA 07-3512 and any subsequently filed documents in this matter may also be found by searching the Commission's Electronic Comment Filing System (ECFS) at http://www.fcc.gov.cgb/ecfs (insert CG Docket No. 03-123 into the Proceeding block).

To request materials in accessible formats for people with disabilities (Braille, large print, electronic files, audio format), send an e-mail to fcc504@fcc.gov or call the Consumer & Governmental Affairs Bureau at (202) 418-0530 (voice), (202) 418-0432 (TTY).

Synopsis

The Commission seeks comment on the Petition for Declaratory Ruling and Complaint Concerning the Provision of Video Relay Service by Sorenson Communications, Inc., CG Docket 03-123, filed May 18, 2007, by five VRS providers: Hands On Video Relay Services, Inc., Communications Services for the Deaf VRS, LLC, Snap Telecommunications, Inc., GoAmerica, Inc., and Communication Access Center for the Deaf and Hard of Hearing (Petitioners). Petitioners claim that Sorenson's alleged employment contract clause that VRS Communications Assistants may not work with other similar entities for one year after employment at Sorenson is contrary to the public interest and therefore should be prohibited.

Federal Communications Commission.
Nicole McGinnis,
Deputy Chief, Consumer & Governmental Affairs Bureau.

[FR Doc. E7-16158 Filed 8-15-07; 8:45 am]

BILLING CODE 6712-01-P